DEPARTMENT OF HEALTH AND HUMAN SERVICES

Centers for Disease Control and Prevention

[30Day-08-0109]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an email to omb@cdc.gov. Send written comments to CDC Desk Officer, Office of Management and Budget, Washington, DC or by fax to (202) 395-6974. Written comments should be received within 30 days of this notice.

Proposed Project

Respiratory Protective Devices—42 CFR 84—Regulation—(0920-0109)—Reinstatement—National Institute for Occupational Safety and Health (NIOSH), Centers for Disease Control and Prevention (CDC).

Background and Brief Description

The regulatory authority for the National Institute for Occupational Safety and Health (NIOSH) certification program for respiratory protective devices is found in the Mine Safety and Health Amendments Act of 1977 (30 U.S.C. 577a, 651 et seq., and 657(g)) and the Occupational Safety and Health Act of 1970 (30 U.S.C. 3, 5, 7, 811, 842(h), 844). These regulations provide the basis for the performance tests and the criteria to respirator manufacturers who submit respirators for testing and certification to be NIOSH-approved. Respirators are used by millions of American construction workers, miners, painters, asbestos removal workers, fabric mill workers, and fire fighters. Improved testing requirements have benefits industrial workers, and health care workers implementing the current CDC Guidelines for Preventing the Transmission of Tuberculosis. Recent developments have provided approvals for self-contained breathing apparatus (SCBA), Air-Purifying respirators, Powered Air-Purifying (PAPR) and Air-Purifying Escape respirators for use by fire fighters and other first responders to potential terrorist attacks. NIOSH, in accordance with 42 CFR 84: (1) Issues certificates of approval for respirators meeting specified construction, performance, and protection requirements; (2) establishes procedures and requirements to be met in filing applications for approval; (3) specifies minimum requirements and methods to be employed by NIOSH and by applicants in conducting inspections, examinations, and tests to determine effectiveness of respirators; (4) establishes a schedule of fees to be charged applicants for testing and certification, and (5) establishes approval labeling requirements.

Information is collected from respirator manufacturers such as; contact information, type of respirator, quality assurance plan, and draft labels, as specified in the regulation. The estimated annualized burden hours are 78,776.

There is no cost to the respondents other than their time.

Estimated Annualized Burden Hours:
Type of respondents | Type of forms | Number of respondents | Number of responses per respondent | Average burden response (in hours)
Respirator Manufacturers | 84.11 Applications | 43 | 8 | 86
| 84.33 Labeling | 43 | 8 | 2
| 84.35 Modifications | 43 | 8 | 66
| 84.41 Reporting | 43 | 8 | 23
| 84.43 Record Keeping | 43 | 8 | 46
| 84.257 Labeling | 43 | 8 | 3
| 84.1103 Labeling | 43 | 8 | 3

Dated: March 11, 2008.
Maryam I. Daneshvar,
Acting Reports Clearance Officer, Centers for Disease Control and Prevention.

[FR Doc. E8-5259 Filed 3-14-08; 8:45 am]

BILLING CODE 4163-18-P